ENVIRONMENTAL PROTECTION AGENCY

40 CFR Part 52

[AZ 063-0020b; FRL-6840-1]

Approval and Promulgation of Implementation Plans; Arizona State Implementation Plan Revision, Pinal County Air Quality Control District and Pinal-Gila Counties Air Quality Control District

AGENCY: Environmental Protection Agency (EPA).

ACTION: Proposed rule.

SUMMARY: EPA proposes to approve revisions to the Arizona State Implementation Plan (SIP) which concern rules from the Pinal County Air Quality Control District (PCAQCD) and Pinal-Gila Counties Air Quality Control District (PGCAQCD).

The intended effect of this action is to provide support for general permitting requirements for stationary sources in the PCAQCD in accordance with the requirements of the Clean Air Act, as amended in 1990 (CAA or the Act). In the Final Rules section of this Federal Register, EPA is approving the state's SIP submittal as a direct final rule without prior proposal because the Agency views this as a noncontroversial revision and anticipates no adverse comments. A detailed rationale for this approval is set forth in the direct final rule. If no adverse comments are received, no further action is contemplated. If EPA receives adverse comments, the direct final rule will be withdrawn and all public comments received will be addressed in a subsequent final rule based on this proposed rule. The EPA will not institute a second comment period. Any parties interested in commenting should do so at this time.

DATES: Written comments must be received by January 19, 2001.

ADDRESSES: Mail comments to: Andrew Steckel, Chief, Rulemaking Office, (AIR-4), Air Division, U.S. Environmental Protection Agency, Region IX, 75 Hawthorne Street, San Francisco, CA 94105.

You can inspect copies of the submitted rule revisions and our technical support documents (TSDs) at our Region IX office from 8 am to 4:30 pm, Monday through Friday. To see copies of the submitted rule revisions, you may also go to the following locations:

Environmental Protection Agency, Air Docket (6102), Ariel Rios Building, 1200 Pennsylvania Avenue, NW., Washington, DC 20460.

Arizona Department of Environmental Quality, 3033 North Central Avenue, Phoenix, AZ 85012.

Pinal County Air Quality Control District, Building F, 31 North Pinal Street (P. O. Box 987), Florence, AZ 85232.

FOR FURTHER INFORMATION CONTACT: Al Petersen, Rulemaking Office, (Air-4), Air Division, U.S. Environmental Protection Agency, Region IX, 75 Hawthorne Street, San Francisco, CA 94105, Telephone: (415) 744-1135.

SUPPLEMENTARY INFORMATION: This document concerns the clarification of which rules were previously approved into the PCAQCD portion of the Arizona SIP on April 9, 1996 (61 FR 15717). In addition, The PCAQCD Rules 1-1-050, 1-1-055, 1-1-105, and 3-1-080 and PGCAQCD Rules 7-1-2.2, 7-1-2.4, 7-1-2.7, 7-2-1.3, and 7-3-6.1 are being removed from the SIP. PCAQCD Rules 3-1-045 and 3-1-100 are clarified as not being in the SIP, because there was not a valid SIP submittal. For further information, please see the information provided in the direct final action that is located in the rules section of this Federal Register.

Dated: July 13, 2000.
Felicia Marcus,
Regional Administrator, Region IX.

[FR Doc. 00-31466 Filed 12-19-00; 8:45 am]

BILLING CODE 6560-50-P